DEPARTMENT OF COMMERCE

National Oceanic and Atmospheric Administration

50 CFR Part 660

[Docket No. 05120322-6051-02; I.D. 010506C]

RIN 0648-AU11

Fisheries Off West Coast States and in the Western Pacific; Western Pacific Pelagic Fisheries; Guam Longline Fishing Prohibited Area

AGENCY: National Marine Fisheries Service (NMFS), National Oceanic and Atmospheric Administration (NOAA), Commerce.

ACTION: Final rule.

SUMMARY: NMFS issues this final rule to amend the geographic coordinates that define the longline fishing prohibited area in waters of the U.S. Exclusive Economic Zone (EEZ) around Guam. This action is necessary to correct an error in one of the published coordinates. The intended effect of this action is to accurately implement the Guam longline closed area.

DATES: Effective April 3, 2006.

ADDRESSES: This rule is available from William L. Robinson, Administrator, NMFS, Pacific Islands Region (PIR), 1601 Kapiolani Boulevard, Suite 1110, Honolulu, HI 96814, and from the PIR web site http://swr.nmfs.noaa.gov/pir.

FOR FURTHER INFORMATION CONTACT: Robert Harman, PIR, 808 944-2271.

SUPPLEMENTARY INFORMATION: This Federal Register document is also accessible via the Internet at http://www.archives.gov/federal-register/publications.

Portions of the EEZ around Guam are closed to pelagic longline fishing to prevent conflicts with users of other types of fishing gear. In 1992, NMFS published in the Federal Register a final rule that created a 50-nm longline closed area around Guam (57 FR 45989, October 6, 1992); the regulations that were implemented by that final rule contained an error in the geographic coordinates for one of the points that define the closed area. NMFS published a technical amendment (59 FR 46933, September 13, 1994) that corrected those coordinates. NMFS subsequently published a rule that consolidated several sections of the Code of Federal Regulations (CFR) under 50 CFR 660 (61 FR 34570, July 2, 1996). In that rule, the geographic coordinates for the same point (Point “C”) were inadvertently published with an error in 50 CFR 660.26(d). This final rule corrects the coordinates.

Comments and Responses

The proposed rule was published in the Federal Register on January 20, 2006 (71 FR 3254), and the comment period ended on February 21, 2006. NMFS received no comments on the proposed rule.

Changes to the Proposed Rule

NMFS made no changes to the proposed rule.

Classification

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule has been determined to be not significant for purposes of Executive Order 12866.

List of Subjects in 50 CFR Part 660

Administrative practice and procedure, American Samoa, Fisheries, Fishing, Guam, Hawaiian Natives, Indians, Northern Mariana Islands, Reporting and recordkeeping requirements.

Dated: February 27, 2006.
James W. Balsiger,
Acting Deputy Assistant Administrator for Regulatory Programs,National Marine Fisheries Service.

For the reasons set out in the preamble, 50 CFR part 660 is correctly amended as follows:

PART 660—FISHERIES OFF WEST COAST STATES AND IN THE WESTERN PACIFIC

1. The authority citation for part 660 continues to read as follows:

Authority: 16 U.S.C. 1801 et seq.

2. In § 660.26, revise the entry for Point C in the table in paragraph (d) to read as follows:

§ 660.26 Longline fishing prohibited area management.

* * * * *

(d) * * *

Point | N. lat. | E. long.
* * * * * * *
C | 13° 41′ | 143°33′33″
* * * * * * *

[FR Doc. 06-1997 Filed 3-2-06; 8:45 am]

BILLING CODE 3510-22-S